DEPARTMENT OF JUSTICE

Notice of Public Meeting Concerning Heavy Duty Diesel Engine Consent Decrees

The Department of Justice and the Environmental Protection Agency will hold a public meeting on Thursday, July 25, 2002 at 10 a.m. in the 13th floor conference room, 1425 New York Avenue NW., Washington, DC. The subject of the meeting will be implementation of the provisions of the seven consent decrees signed by the United States and diesel engine manufacturers and entered by the United States District Court for the District of Columbia on July 1, 1999. (United States v. Caterpillar, Case No. 1:98CV02544; United States v. Navistar International Transportation Corporation, Case No. 1:98CV02545; United States v. Cummins Engine Company, Case No. 1:98CV02546; United States v. Detroit Diesel Corporation, Case No. 1:98CV02548; United States v. Volvo Truck Corporation, Case No. 1:98CV02547; United States v. Mack Trucks, Inc., Case No. 1:98CV01495; and United States v. Renault Vehicles Industries, S.A., Case No. 1:98CV02543). In supporting entry by the court of the decrees, the United States committed to meet with states, industry groups, environmental groups, and concerned citizens to discuss consent degree implementation issues. This is the seventh of a series of public meetings held quarterly during the first year of implementation of the consent decrees and at least annually thereafter.

Further meetings will be announced in the Federal Register and/or on EPA's Diesel Engine Settlement web page at: http://www.epa.gov/compliance/resources/cases/civil/caa/diesel.

Interested parties may contract the Environmental Protection Agency prior to the meeting at the address listed below with questions or suggestions for topics of discussion. For further information, please contact: Anne Wick, EPA Diesel Engine Consent Decree Coordinator, U.S. Environmental Protection Agency (Mail Code 2242A), EPA Headquarters, Washington, DC 20460, e-mail: WICK.ANNE&EPA.GOV.

Bruce S. Gelber,
Chief, Environment & Natural Resources Division, Environmental Enforcement Section.

[FR Doc. 02-18102 Filed 7-17-02; 8:45 am]

BILLING CODE 4410-15-M